DEPARTMENT OF HEALTH AND HUMAN SERVICES

Administration for Children and Families

[CFDA Number: 93.647]

Announcement of an Unsolicited Single-Source Grant Award to the Woodson Center in Washington, DC

AGENCY: Office of Planning, Research and Evaluation, Administration for Children and Families, Department of Health and Human Services.

ACTION: Notice of issuance.

SUMMARY: The Administration for Children and Families (ACF), Office of Planning, Research and Evaluation announces the award of a grant in the amount of $150,000 to the Woodson Center of Washington, DC, to support an environmental scan of models of service for privately managed foster care.

DATES: The project period will be May 15, 2019, to November 14, 2019.

FOR FURTHER INFORMATION CONTACT: Wendy DeCourcey, Senior Social Science Analyst; Office of Planning, Research and Evaluation; 330 C Street SW, Washington, DC 20201. Telephone: 202-260-2039.

SUPPLEMENTARY INFORMATION: The Woodson Center plans to complete an environmental scan of privately managed foster care systems in multiple states. This environmental scan is expected to inform future networking efforts among similar organizations and identification and dissemination of best practices.

Statutory Authority: Social Security Act, Title XI, Section 1110, 42 U.S.C. 1310.

Elizabeth Leo,
Senior Grants Policy Specialist, Division of Grants Policy, Office of Administration.

[FR Doc. 2019-10897 Filed 5-23-19; 8:45 am]

BILLING CODE 4184-07-P